NUCLEAR REGULATORY COMMISSION

[NRC-2024-0056]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by April 18, 2024, A request for a hearing or petitions for leave to intervene must be filed by May 20, 2024. This monthly notice includes all amendments issued, or proposed to be issued, from February 2, 2024, to February 29, 2024. The last monthly notice was published on February 20, 2024.

ADDRESSES: You may submit comments by any of the following methods; however, the NRC encourages electronic comment submission through the Federal rulemaking website:

• Federal Rulemaking Website: Go to https://www.regulations.gov and search for Docket ID NRC-2024-0056. Address questions about Docket IDs in Regulations.gov to Stacy Schumann; telephone: 301-415-0624; email: Stacy.Schumann@nrc.gov. For technical questions, contact the individual listed in the

FOR FURTHER INFORMATION CONTACT: section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001, telephone: 301-415-2242; email: Paula.Blechman@nrc.gov.

SUPPLEMENTARY INFORMATION:

I. Obtaining Information and Submitting Comments

A. Obtaining Information

Please refer to Docket ID NRC-2024-0056, facility name, unit number(s), docket number(s), application date, and subject when contacting the NRC about the availability of information for this action. You may obtain publicly available information related to this action by any of the following methods:

• Federal Rulemaking Website: Go to https://www.regulations.gov and search for Docket ID NRC-2024-0056.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0056, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave to Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, federally recognized Indian Tribe, or designated agency thereof, may submit a petition to the Commission to participate as a party under 10 CFR 2.309(h) no later than 60 days from the date of publication of this notice. Alternatively, a State, local governmental body, federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Energy Harbor Nuclear Corp. and Energy Harbor Nuclear Generation LLC; Perry Nuclear Power Plant, Unit 1; Lake County, OH
Docket No(s) | 50-440.
Application date | January 24, 2024.
ADAMS Accession No | ML24025A011.
Location in Application of NSHC | Pages 4-6 of Attachment 1.
Brief Description of Amendment(s) | The proposed amendment would adopt Technical Specifications Task Force (TSTF) Traveler TSTF-264-A, Revision 0, “3.3.9 and 3.3.10—Delete Flux Monitors Specific Overlap Requirement SRs [Surveillance Requirements]” and delete SRs 3.3.1.1.6 and 3.3.1.1.7, which verify overlap between the source range monitor and intermediate range monitor (IRM), and between the IRM and average power range monitor.
Proposed Determination | NSHC.
Name of Attorney for Licensee, Mailing Address | Rick Giannantonio, General Counsel, Energy Harbor Nuclear Corp.,168 E. Market Street Akron, OH 44308-2014.
NRC Project Manager, Telephone Number | Scott Wall, 301-415-2855.
Nine Mile Point Nuclear Station, LLC and Constellation Energy Generation, LLC; Nine Mile Point Nuclear Station, Units 1 and 2; Oswego County, NY
Docket No(s) | 50-220, 50-410.
Application date | August 18, 2023, as supplemented by letter dated February 1, 2024.
ADAMS Accession No | ML23230A010, ML24032A005.
Location in Application of NSHC | Pages 2-3 of Attachment 1.
Brief Description of Amendment(s) | The proposed amendments would remove the Nine Mile Point 3 Nuclear Project, LLC (NMP3) designation from the Nine Mile Point Nuclear Station, Unit 1 (NMP1), and Nine Mile Point Nuclear Station, Unit 2 (NMP2) technical specifications (TSs), which are not applicable to the current design features of the NMP site. Specifically, Section 5.0, “Design Features,” in the NMP1 TSs and Section 4.0, “Design Features,” in the NMP1 TSs and Section 4.0, “Design Features,” Figure 4.1-1 in the NMP2 TSs would be revised to reflect as they were prior to the issuance of License Amendment Nos. 212 (NMP1) and 142 (NMP2), which were issued on July 12, 2012 (ML12157A556). In addition, the name Entergy Nuclear Fitzpatrick, LLC” would be revised on Figure 5.1-1 for NMP1 and Figure 4.1-1 for NMP2 to “Constellation FitzPatrick, LLC,” to reflect the current name of the licensee for the James A. FitzPatrick Nuclear Power Plant site. The original license amendment requests associated with License Amendment Nos. 212 and 142 were submitted with reference to the Combined License (COL) application supporting the proposed NMP3 project. Following receipt of the aforementioned approved amendments, Constellation Energy Nuclear Group, LLC (CENG), the previous owners of NMP1 and NMP2, halted further progress in pursuing a COL for NMP3. As a result, CENG decided not to implement the changes into the NMP1 and NMP2 TSs. Additionally, Constellation Energy Generation, LLC has no proposed plans for NMP3.
Proposed Determination | NSHC.
Name of Attorney for Licensee, Mailing Address | Jason Zorn, Associate General Counsel, Constellation Energy Generation, 101 Constitution Ave. NW, Suite 400 East, Washington, DC 20001.
NRC Project Manager, Telephone Number | Richard Guzman, 301-415-1030.
Northern States Power Company; Monticello Nuclear Generating Plant; Wright County, MN
Docket No(s) | 50-263.
Application date | December 29, 2023.
ADAMS Accession No | ML23363A174.
Location in Application of NSHC | Pages 12-15 of Enclosure 1.
Brief Description of Amendment(s) | The proposed amendment would replace the current neutron fluence methodology with a newer methodology and revise the technical specifications to update the methodology for developing a pressure temperature limits report.
Proposed Determination | NSHC.
Name of Attorney for Licensee, Mailing Address | Peter M. Glass, Assistant General Counsel, Xcel Energy, 414 Nicollet Mall—401-8, Minneapolis, MN 55401.
NRC Project Manager, Telephone Number | Brent Ballard, 301-415-0680.
Tennessee Valley Authority; Watts Bar Nuclear Plant, Units 1 and 2; Rhea County, TN
Docket No(s) | 50-390, 50-391.
Application date | January 9, 2024.
ADAMS Accession No | ML24009A170.
Location in Application of NSHC | Pages E1 2 of 3 and E1 3 of 3 of Enclosure1, which incorporates, by reference, the NSHC notice of availability published in the Federal Register on October 3, 2006 (71 FR 58444).
Brief Description of Amendment(s) | The proposed amendments would revise Watts Bar Nuclear Plant, Units 1 and 2, technical specifications by adding Limiting Condition for Operation 3.0.9, consistent with Technical Specification Task Force (TSTF) Traveler TSTF-427, Revision 2, “Allowance for Non-Technical Specification Barrier Degradation on Supported System OPERABILITY.”
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Omaha Public Power District; Fort Calhoun Station, Unit 1; Washington County, NE
Docket No(s) | 50-285.
Amendment Date | January 31, 2024.
ADAMS Accession No | ML24019A145 (Package).
Amendment No(s) | 302.
Brief Description of Amendment(s) | The amendment approved the License Termination Plan for the decommissioning of Fort Calhoun Station, Unit 1.
Public Comments Received as to Proposed NSHC (Yes/No) | No.
Constellation Energy Generation, LLC; Clinton Power Station, Unit No. 1; DeWitt County, IL
Docket No(s) | 50-461.
Amendment Date | February 6, 2024.
ADAMS Accession No | ML23338A110.
Amendment No(s) | 252.
Brief Description of Amendment(s) | The amendment revised diesel generator starting air system requirements in Technical Specification 3.8.3, “Diesel Fuel Oil, Lube Oil, and Starting Air,” to allow a starting air system to be considered operable with one of two starting air receivers at or above required pressure.
Public Comments Received as to Proposed NSHC (Yes/No) | No.
Constellation Energy Generation, LLC; LaSalle County Station, Units 1 and 2; LaSalle County, IL
Docket No(s) | 50-373, 50-374.
Amendment Date | February 9, 2024.
ADAMS Accession No | ML24018A068.
Amendment No(s) | 262 (Unit 1) and 247 (Unit 2).
Brief Description of Amendment(s) | The amendments changed the Updated Final Safety Analysis Report for LaSalle County Station, Units 1 and 2, to allow the use of plastic section properties in analysis of the lower downcomer braces.
Public Comments Received as to Proposed NSHC (Yes/No) | No.
Energy Harbor Nuclear Corp. and Energy Harbor Nuclear Generation LLC; Perry Nuclear Power Plant, Unit No. 1; Lake County, OH
Docket No(s) | 50-440.
Amendment Date | February 21, 2024.
ADAMS Accession No | ML23353A001.
Amendment No(s) | 202.
Brief Description of Amendment(s) | The amendment modified the NOTES in Technical Specification (TS) 3.8.1, “AC [Alternating Current] Sources—Operating,” Surveillance Requirements (SR) 3.8.1.9, 3.8.1.10 and 3.8.1.14, consistent with Technical Specification Task Force (TSTF) Traveler TSTF-276, Revision 2, “Revise DG [diesel generator] full load rejection test.” The NOTES allow the SRs to be performed at a specified power factor with clarifications addressing situations when the power factor cannot be achieved.
Public Comments Received as to Proposed NSHC (Yes/No) | No.
Florida Power & Light Company, et al.; St. Lucie Plant, Unit Nos. 1 and 2; St. Lucie County, FL
Docket No(s) | 50-335, 50-389.
Amendment Date | February 20, 2024.
ADAMS Accession No | ML24005A277.
Amendment No(s) | 253 (Unit 1) and 208 (Unit 2).
Brief Description of Amendment(s) | The amendments revised the technical specifications to improved standard technical specifications, consistent with NUREG-1432, Revision 5, “Standard Technical Specifications—Combustion Engineering Plants.”
Public Comments Received as to Proposed NSHC (Yes/No) | No.
STP Nuclear Operating Company; South Texas Project, Units 1 and 2; Matagorda County, TX
Docket No(s) | 50-498, 50-499.
Amendment Date | February 20, 2024.
ADAMS Accession No | ML24022A225.
Amendment No(s) | 227 (Unit 1) and 212 (Unit 2).
Brief Description of Amendment(s) | The amendments authorized the revision of the alternative source term dose calculation for the main steam line break and the locked rotor accident. The reanalysis uses the asymmetric natural circulation cooldown thermohydraulic analyses, various radiation transport assumptions, and the current licensing basis source term and meteorological data to evaluate the dose effects of an extended cooldown on the existing accident analyses.
Public Comments Received as to Proposed NSHC (Yes/No) | No.
Susquehanna Nuclear, LLC and Allegheny Electric Cooperative, Inc.; Susquehanna Steam Electric Station, Units 1 and 2; Luzerne County, PA
Docket No(s) | 50-387, 50-388.
Amendment Date | February 27, 2024.
ADAMS Accession No | ML24039A188.
Amendment No(s) | 286 (Unit 1) and 270 (Unit 2).
Brief Description of Amendment(s) | The amendments revised technical specifications by modifying requirements on control rod withdrawal order and conditions to protect against a postulated control rod drop accident during startup and low power conditions. The amendments also included editorial changes to the technical specifications.
Public Comments Received as to Proposed NSHC (Yes/No) | No.
Vistra Operations Company LLC; Comanche Peak Nuclear Power Plant, Unit Nos. 1 and 2; Somervell County, TX
Docket No(s) | 50-445, 50-446.
Amendment Date | February 9, 2024.
ADAMS Accession No | ML24023A296.
Amendment No(s) | 186 (Unit 1) and 186 (Unit 2).
Brief Description of Amendment(s) | The amendments authorized an Updated Final Safety Analysis Report change to implement a licensing basis change regarding compliance with 10 CFR part 50, appendix A, General Design Criterion 5, “Sharing of structures, systems, and components,” and conformance with Regulatory Guide (RG) 1.81, Revision 1, “Shared Emergency and Shutdown Electric Systems for Multi-Unit Nuclear Power Plants.” The licensing basis change permitted certain safety-related common electrical loads, and some Unit 1 specific electrical loads to be fed from common electrical panels, which represents a deviation from RG 1.81.
Public Comments Received as to Proposed NSHC (Yes/No) | No.
Wolf Creek Nuclear Operating Corporation; Wolf Creek Generating Station, Unit 1; Coffey County, KS
Docket No(s) | 50-482.
Amendment Date | February 27, 2024.
ADAMS Accession No | ML24026A021.
Amendment No(s) | 239.
Brief Description of Amendment(s) | The amendment modified the implementation date of License Amendment No. 238 for Wolf Creek Generating Station, Unit 1.
Public Comments Received as to Proposed NSHC (Yes/No) | No.

Dated: March 13, 2024.
For the Nuclear Regulatory Commission.
Aida E. Rivera-Varona,
Deputy Director, Division of Operating Reactor Licensing, Office of Nuclear Reactor Regulation.

[FR Doc. 2024-05678 Filed 3-18-24; 8:45 am]

BILLING CODE 7590-01-P